DEPARTMENT OF STATE

[Public Notice: 10545]

Notice of Intent To Prepare a Supplemental Environmental Impact Statement for the Proposed Keystone XL Pipeline Mainline Alternative Route in Nebraska

ACTION: Notice of intent.

SUMMARY: The U.S. Department of State (Department) issues this Notice of Intent (NOI) to announce that it will prepare a Supplemental Environmental Impact Statement (SEIS)—consistent with the National Environmental Policy Act (NEPA) of 1969—to analyze the potential environmental impacts of the Keystone XL Mainline Alternative Route (MAR).

FOR FURTHER INFORMATION CONTACT: Detailed records on the proposed Project are available at: https://keystonepipeline-xl.state.gov.

Marko Velikonja, Keystone XL Program Manager, Office of Environmental Quality and Transboundary Issues, U.S. Department of State, 2201 C Street NW, Washington DC 20520. (202) 647-4828, VelikonjaMG@state.gov.

SUPPLEMENTARY INFORMATION: On January 26, 2017, TransCanada Keystone Pipeline, L.P. (TransCanada) resubmitted its 2012 Presidential permit application for the border facilities for the proposed Keystone XL Pipeline. The Under Secretary of State for Political Affairs determined that issuance of a Presidential permit to TransCanada to construct, connect, operate, and maintain pipeline facilities at the northern border of the United States to transport crude oil from Canada to the United States would serve the national interest. Accordingly, on March 23, 2017, the Under Secretary issued a Presidential permit to TransCanada for the Keystone XL Pipeline border facilities. Subsequently, on November 20, 2017, the Nebraska Public Service Commission approved the Mainline Alternative Route for that pipeline in the State of Nebraska. TransCanada's application to the Bureau of Land Management for a right-of-way remains pending with that agency.

On May 25, 2018, the Department issued a Notice of Intent to Prepare an Environmental Assessment for the Proposed Keystone XL Pipeline Mainline Alternative Route in Nebraska (83 FR 24383) which provided for a 30-day public scoping period. On July 30, 2018, the Department issued a Notice of Availability of the Draft Environmental Assessment for the Proposed Keystone XL Pipeline Mainline Alternative Route in Nebraska (83 FR 36659) which provided for a 30-day public comment period. The Department intends to consider comments received regarding the Environmental Assessment in the Final SEIS document.

Brian P. Doherty,
Director, Office of Environmental Quality and Transboundary Issues, Department of State.

[FR Doc. 2018-20064 Filed 9-14-18; 8:45 am]

BILLING CODE 4710-09-P